DEPARTMENT OF COMMERCE

National Oceanic and Atmospheric Administration

50 CFR Part 648

[I.D. 091800K]

Mid-Atlantic Fishery Management Council; Public Hearings

AGENCY: National Marine Fisheries Service (NMFS), National Oceanic and Atmospheric Administration (NOAA), Commerce.

ACTION: Cancellation of public hearings.

SUMMARY: NMFS announces the cancellation of two public hearings that had dates and locations yet to be determined by the Atlantic States Marine Fisheries Commission (ASMFC) and held in the states of Massachusetts and Rhode Island on the public hearing draft of Amendment 13 to the Summer Flounder, Scup, and Black Sea Bass Fishery Management Plan. The intent to schedule these meetings was announced in the Federal Register on September 27, 2000.

FOR FURTHER INFORMATION CONTACT: Daniel T. Furlong, Executive Director of the Mid-Atlantic Fishery Management Council (Council), 302-674-2331, ext. 19, or John Dunnigan, Executive Director, ASMFC, 202-289-6400, ext. 304.

SUPPLEMENTARY INFORMATION: NMFS, the Council, and ASMFC jointly manage the summer flounder fishery off the Atlantic coast. An earlier notice, published in the Federal Register (65 FR 58035, September 27, 2000) announced four public hearings with specific locations and dates to gather public comments on draft Amendment 13. The same notice also advised the public that two additional hearings (one in Massachusetts and one in Rhode Island) would be held at locations and times to be determined by the ASMFC and announced later through another notice in the Federal Register. The ASMFC has decided not to hold these hearings.

Dated: October 30, 2000.
Bruce C. Morehead,
Acting Director, Office of Sustainable Fisheries, National Marine Fisheries Service.

[FR Doc. 00-28305 Filed 11-2-00; 8:45 am]

BILLING CODE 3510-22-S